DEPARTMENT OF THE INTERIOR

Bureau of Land Management

[LLWYD0100000 L13140000.NB0000 18X]

Notice of Availability of the Final Environmental Impact Statement for the Normally Pressured Lance (NPL) Natural Gas Development Project

AGENCY: Bureau of Land Management, Interior.

ACTION: Notice of availability.

SUMMARY: In accordance with the National Environmental Policy Act of 1969, as amended, and the Federal Land Policy and Management Act of 1976, as amended, the Bureau of Land Management (BLM) has prepared the NPL Final Environmental Impact Statement (Final EIS) for the NPL project in the BLM Pinedale and Rock Springs Field Offices.

DATES: The BLM will not issue a final decision on the proposal for a minimum of 30 days after the date that the Environmental Protection Agency publishes its Notice of Availability (NOA) in the Federal Register.

ADDRESSES: The NPL Final EIS is available for public review at the BLM Pinedale Field Office, 1625 West Pine Street, Pinedale, Wyoming; the BLM High Desert District Office, 280 Highway 191 North, Rock Springs, Wyoming; and the BLM Wyoming State Office, 5353 Yellowstone Road, Cheyenne, Wyoming. The document may also be reviewed online at http://tinyurl.com/hloulms.

FOR FURTHER INFORMATION CONTACT: Kellie Roadifer, NPL EIS Project Manager, BLM Pinedale Field Office, PO Box 768, Pinedale, WY 82941, (307) 367-5309, kroadife@blm.gov. Persons who use telecommunications device for the deaf (TDD) may call the Federal Relay Service (FRS) at 1-800-877-8339 to contact the above individual during normal business hours. The FRS is available 24 hours a day, 7 days a week to leave a message or question with the above individual. You will receive a reply during normal business hours.

SUPPLEMENTARY INFORMATION: The NPL project is located immediately south and west of the existing Jonah Gas Field in Sublette County, Wyoming. The project area lies within the BLM Wyoming High Desert District (HDD) and spans the Pinedale Field Office (PFO) in the north and Rock Springs Field Office (RSFO) to the south.

The project encompasses approximately 141,000 acres of public, State, and private lands. Approximately 96% of the project area is on BLM-administered public lands. Within the NPL project area, there are both unitized and non-unitized development areas.

Jonah Energy LLC, the current operator after purchasing Encana Oil and Gas Inc.'s leasehold interest in the project, is proposing up to 3,500 directionally drilled wells (depth range from 6,500 to 13,500 feet) over a 10-year period. Under Jonah Energy's proposal, most wells would be co-located on multi-well pads, with no more than four well pads per 640 acres in areas outside of Greater Sage-grouse Priority Habitat Management Areas (PHMA). There would be only one disturbance per 640 acres inside PHMA. On average, each well pad would be 18 acres in size. Regional gathering facilities would be utilized instead of placing compressors at each well pad. Associated access roads, pipelines, and other ancillary facilities would be co-located where possible to further minimize surface disturbance.

There are approximately 48,036 acres of PHMA, 27,292 acres of Greater Sage-grouse Winter Concentration Area (WCA), and 1,259 acres of Sagebrush Focal Areas (SFAs) within the NPL project area. All of the SFA is within the Rock Springs Field Office.

Cooperating agencies for this EIS include the State of Wyoming, with active participation from many state agencies including the Wyoming Game and Fish Department, State Historic Preservation Office, the Wyoming Department of Environmental Quality and the Wyoming Department of Agriculture. Local cooperating agencies include Sweetwater, Lincoln and Sublette Counties, and the Sublette County Conservation District.

The Notice of Intent to prepare the EIS was published on April 12, 2011 (70 FR 20370), initiating a 30-day formal public scoping period. Public scoping meetings were held in Pinedale, Rock Springs, and Marbleton, WY. Public scoping comments were used to identify issues that informed the formulation of alternatives and framed the scope of analysis for the NPL EIS.

A total of 1,238 scoping comments were received, with 29 resource issues identified. Key issues identified during scoping informed the formulation of alternatives and framed the scope of analysis for the NPL Final EIS. The issues include:

Air Quality: Potential project and cumulative impacts on air quality, including air quality-related values.

Regulatory Setting: Permits, authorization, conformance with other plans, laws, policies and guidance.

Social and Economic impacts: Jobs, housing, Federal mineral royalties, and quality of life.

Mitigation (including Compensatory Mitigation): When and how it applies to individual resource protection measures.

Reclamation and Monitoring: The effect of currently used practices including seed mixes, revegetation, use of reference sites including ecological site descriptions.

Wildlife Habitat, particularly Greater sage-grouse and pronghorn antelope: The project's potential to further fragment wildlife habitats and diminish the value of those habitats for many species.

In response to the scoping comments received, the BLM developed three alternatives to the Proposed Action: The No Action Alternative, utilizing existing standard stipulations and examining the project area under the historical rate of development of around three wells per year; Alternative A, utilizing a phased approach moving through existing leased oil and gas units and responding to identified wildlife issues; and Alternative B, which addressed a broad range of resource concerns in response to issues identified during scoping.

Alternatives A and B each analyzed the same rate of development as the Proposed Action, as well as the use of regional gathering facilities. However, in addition to varying resource protection measures, each alternative analyzed differing densities of development between one to four well pads per 640 acres, depending on the resource considerations of the project area. Additionally, Alternative A analyzed the merits of developing the project area in three geographically defined phases, occurring sequentially, and taking into consideration existing oil and gas units.

Interim and final reclamation activities would be implemented under all alternatives to return the landscape to its previous condition in conformance with the NPL Reclamation Plan and the relevant Resource Management Plans (RMP).

All alternatives conform to the Pinedale Field Office Resource Management Plan Record of Decision (2008) and the Rock Springs Field Office Green River Resource Management Plan Record of Decision (1997), as amended by the Record of Decision and Approved Resource Management Plan Amendments for the Rocky Mountain Region, Including the Greater Sage-Grouse Sub-Region of Wyoming (2015).

The Draft EIS Notice of Availability was published on July 7, 2017 (129 FR 31628), opening a 45-day public comment period. Public meetings were held on July 25, 2017 in Pinedale, and July 26, 2017 in Rock Springs. Over 1,000 individual comment letters were received. Comments included identified issues associated with each alternative, including feasibility and sufficiency of the analysis and impacts to specific resources as a result of each alternative. Comments were considered and incorporated as appropriate into the Final EIS; however, the analysis of the alternatives and the identified impacts did not significantly change.

The Final EIS is consistent with the BLM's obligations under the Federal Land Policy and Management Act.

Authority: 40 CFR 1506.6 and 40 CFR 1506.10.

Mary Jo Rugwell,
BLM Wyoming State Director.

[FR Doc. 2018-13273 Filed 6-21-18; 8:45 am]

BILLING CODE 4310-22-P